DEPARTMENT OF HEALTH AND HUMAN SERVICES

Administration for Children and Families

Submission for OMB Review; Child Care and Development Fund (CCDF) Consumer Education Website and Reports of Serious Injuries and Death

AGENCY: Office of Child Care, Administration for Children and Families, HHS.

ACTION: Request for public comment.

SUMMARY: The Office of Child Care (OCC), Administration for Children and Families (ACF), U.S. Department of Health and Human Services (HHS), is proposing a revision to an approved information collection: “Child Care and Development Fund (CCDF) Consumer Education website and Reports of Serious Injuries and Death.” (OMB #0970-0473, expiration 2/29/2020).

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV, Attn: Desk Officer for the Administration for Children and Families.

Copies of the proposed collection may be obtained by emailing infocollection@acf.hhs.gov. Alternatively, copies can also be obtained by writing to the Administration for Children and Families, Office of Planning, Research, and Evaluation, 330 C Street SW, Washington, DC 20201, Attn: ACF Reports Clearance Officer. All requests, emailed or written, should be identified by the title of the information collection.

SUPPLEMENTARY INFORMATION:

Description: The revised Consumer Education website information collection requirement will require states and territories to include certain information about their state or territory policies (related to background checks) on their Consumer Education websites.

The existing Reporting of Serious Injuries and Death information collection requirement will not be modified. There are no standard federal forms associated with these reporting requirements.

Respondents: The Consumer Education website information collection requirement applies to the 50 States, the District of Columbia, and five Territories that receive CCDF grants. The estimated number of provider respondents for the Reporting of Serious Injuries and Death information collection requirement would be approximately 10,000 annually.

Annual Burden Estimates
Instrument | Annual number of respondents | Total number of responses per respondent | Average burden hours per response | Annual burden hours
Consumer Education Website | 56 States and Territories | 1 | 300 | 16,800
Reporting of Serious Injuries and Death | 10,000 Child Care Providers | 1 | 1 | 10,000

Estimated Total Annual Burden Hours: 26,800.

Authority: Pub. L. 113-186; 42 U.S.C. 9858 et seq.

Mary B. Jones,
ACF/OPRE Certifying Officer.

[FR Doc. 2020-03557 Filed 2-21-20; 8:45 am]

BILLING CODE 4184-43-P